FEDERAL COMMUNICATIONS COMMISSION

47 CFR Part 73

[DA 01-866; MM Docket No. 01-86; RM-10079]

Radio Broadcasting Services; Lost Cabin and Arapahoe, WY

AGENCY: Federal Communications Commission.

ACTION: Proposed rule.

SUMMARY: The Commission requests comments on a petition filed by Idaho Broadcasting Corsortium, Inc., proposing the reallotment of Channel 256C from Lost Cabin to Arapahoe, Wyoming, and the modification of Station KSXZ-FM's construction permit accordingly. Channel 256C can be reallotted to Arapahoe in compliance with the Commission's minimum distance separation requirements with a site restriction of 1.5 (0.9 miles) northeast at the petitioner's requested site. The coordinates for Channel 256C at Arapahoe are 42-5813 North Latitude and 108-28-30 West Longitude.

DATES: Comments must be filed on or before May 28, 2001, and reply comments on or before June 12, 2001.

ADDRESSES: Federal Communications Commission, Washington, DC 20554. In addition to filing comments with the FCC, interested parties should serve the petitioner, his counsel, or consultant, as follows: Laura A. Otis, Rosenman & Colin, LLP, 805 15th Street, NW., 9th Floor, Washington, DC 20005-2212 (Counsel for Petitioner).

FOR FURTHER INFORMATION CONTACT: Sharon P. McDonald, Mass Media Bureau, (202) 418-2180.

SUPPLEMENTARY INFORMATION: This is a synopsis of the Commission's Notice of Proposed Rule Making, MM Docket No. 01-86, adopted March 28, 2001 and released April 6, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Wyoming, is amended by removing Lost Cabin, Channel 256C and adding Arapahoe, Channel 256C.

Federal Communications Commission.
John A. Karousos,
Chief, Allocations Branch, Policy and Rules Division, Mass Media Bureau.

[FR Doc. 01-9835 Filed 4-19-01; 8:45 am]

BILLING CODE 6712-01-P